DEPARTMENT OF HEALTH AND HUMAN SERVICES

Notice of a Cooperative Agreement with Meharry Medical College

AGENCY: Department of Health and Human Services, Office of the Secretary, Office of Public Health and Science, Office of Minority Health.

ACTION: Notice.

SUMMARY: The Office of Minority Health (OMH), Office of Public Health and Science, announces that it will enter into a cooperative agreement with Meharry Medical College (MMC). This cooperative agreement is an umbrella cooperative agreement and will establish the programmatic framework in which specific projects can be supported by various agencies during the project period.

The purpose of this cooperative agreement is to strengthen the nation's capacity to prepare health professionals from disadvantaged backgrounds to serve minority populations and to develop a national model for improving health care delivery to indigent and underserved citizens. The ultimate goal is to improve the health status of minorities and disadvantaged people and increase the diversity of the health-related workforce.

DATES: Persons requesting additional information about this notice should contact the OPHS Office of Grants Management. This cooperative agreement will be effective September 28, 2007.

Authority: This cooperative agreement is authorized under 42 U.S.C. 300u-6, section 1707 of the Public Health Service Act, as amended.

The Catalogue of Federal Domestic Assistance number is 93.004.

FOR FURTHER INFORMATION CONTACT: If you are interested in obtaining additional information regarding this project, contact Ms. Sonsiere Cobb-Souza, Director, Division of Program Operations, Office of Minority Health, 1101 Wootton Parkway, Suite 600, Rockville, Maryland 20852 or telephone (240) 453-8444.

SUPPLEMENTARY INFORMATION:

Funding Opportunity Description

Background

The health status of African Americans is dependent on the availability of a substantial pool of black physicians because these doctors are much more likely than their white colleagues to locate their practices in areas with large minority populations.¹ According to the Joint Center for Political and Economic Studies, these areas are usually medically underserved as well.

¹ Joint Center for Political and Economic Studies, Focus Magazine, Can Black Doctors Survive?, October 1997, retrieved November 30, 2005 from the Joint Center for Political and Economic Studies Web Site: http://www.jointcenter.org/publications1/focus/focusPDFs/1997/oct97.pdf.

Furthermore, 46 percent of the patients of black doctors are black, and nearly six times as many black patients are cared for by black physicians as by non-black physicians.² Studies also show that minority patients have higher levels of satisfaction in race/ethnicity concordant settings. Patients tend to rate their physicians' communication style, which is correlated with patient satisfaction, higher in race/ethnicity-concordant relationships.³

² Ibid.

³ Missing Persons: Minorities in the Health Professions, A Report of the Sullivan Commission on Diversity in the Health Care Workforce, retrieved February 10, 2006 from the Sullivan Commission Web site: http://admissions.duhs.duke.edu/sullivancommission/index.cfm.

Throughout the twenty-first century, the number of racial and ethnic minorities is expected to steadily increase and, by mid-century, they will constitute a new U.S. majority. The African American population is expected to almost double from 36 million to 61 million.⁴ MMC has graduated more black physicians than any other medical school. In order to continue this educational trend and flow of black physicians into medically underserved areas, OMH will enter into an umbrella cooperative agreement with MMC. Assistance will be provided only to MMC to accomplish the objectives of this cooperative agreement because it has the following combination of factors:

⁴ Ibid.

1. The majority of MMC's graduates practice in medically underserved rural and inner city areas. Of its almost 4,000 living alumni throughout the United States, 78 percent serve lower socioeconomic and disadvantaged urban and rural communities.

2. MMC has historically trained a significant number of African American physicians and dentists in the United States. More than 15 percent of African Americans who receive doctoral degrees in medicine, dentistry, and the biomedical sciences each year are Meharry graduates.

3. In each of the past five years, MMC has graduated the largest number of African American Ph.D.s in the biomedical sciences of any academic institution in the nation.

4. MMC is the largest private, independent, historically minority institution in the United States exclusively dedicated to health professions education and training.

Award Information

This cooperative agreement will be awarded in FY 2007 for a 12-month budget period within a project period of five years. Depending upon the types of projects and availability of funds, it is anticipated that this cooperative agreement will initially receive approximately $1,200,000. Continuation awards within the project period will be made on the basis of satisfactory progress, development of an approved application, and the availability of funds.

Eligibility Information

Assistance will be provided only to the Meharry Medical College.

Under this cooperative agreement, OMH will:

1. Serve as the HHS lead in collaboration with partner agencies to provide financial assistance and programmatic guidance to MMC;

2. Meet with MMC representatives to discuss and approve work plans, including objectives, data integrity and confidentiality, evaluation techniques and budget items;

3. Provide technical assistance relative to project design and implementation, monitor progress of project activities, and evaluate progress and reports; and

4. Review and approve the implementation and dissemination of relevant project findings, final reports and project products prior to dissemination to public and private parties.

MMC will:

1. Continue to develop racial and ethnic minority health care professionals that are well-educated about health disparities, prepared to address diseases that adversely impact minority populations, and committed to practicing and delivering community-oriented health care services in medically underserved areas;

2. Work toward increasing the number of residents of other area health professions institutions into the in-patient and ambulatory care services of Nashville General Hospital at the Meharry campus for the purpose of providing those residents experience in working with and increasing available services to minority and disadvantaged populations;

3. Continue its collaborative relationship with Vanderbilt University Medical Center (the Meharry-Vanderbilt Alliance) to further expand collaborative research and research training initiatives at MMC (particularly addressing health disparities) through collaborative research projects, increase the number of shared clerkships, and expand primary care experiences for students from both institutions through the joint residency program;

4. Implement an Office of Educational Development and Support designed to support students identified as being at-risk by providing workshops to improve test-taking and time/stress management skills, application and interview skills workshops, primary care exposure and United States Medical Licensure Examination review;

5. Establish a program to track students' progress and ultimate process of the program in improving the number of physicians practicing in minority and medically underserved areas;

6. Expand the MMC Clinical Skills Assessment Center and provide enhanced training in cultural competency so that students will demonstrate improvement in their cultural awareness, attitude, knowledge and skills;

7. Expand health disparity research and research training activities through the development and implementation of a library modernization plan that will expand library resources to community-based providers, enhance biomedical informatics services, and increase behavioral and population-based research resources; and

8. Provide a report of the initial practice locations of MMC medical and dental graduates for each of the past 10 years and the number of students completing their education during the project period that were assisted by this program.

Dated: October 2, 2007.
Mirtha R. Beadle,
Deputy Director, Office of Minority Health.

[FR Doc. E7-19737 Filed 10-5-07; 8:45 am]

BILLING CODE 4150-29-P